DEPARTMENT OF HEALTH AND HUMAN SERVICES

Centers for Disease Control and Prevention

Disease, Disability, and Injury Prevention and Control Special Emphasis Panel (SEP): The National Center for Chronic Disease Prevention and Health Promotion (NCCDPHP) Arthritis Program Programmatic Review

In accordance with Section 10(a)(2) of the Federal Advisory Committee Act (Pub. L. 92-463), the Centers for Disease Control and Prevention (CDC) announces the aforementioned meeting.

Time and Date: 8 a.m.-5 p.m., April 24, 2007 (Closed).

Place: Renaissance Hotel, 590 W. Peachtree Street NW., Atlanta, GA 30308, telephone 404-881-6000.

Status: The meeting will be closed to the public in accordance with provisions set forth in Section 552b(c) (4) and (6), Title 5 U.S.C., and the Determination of the Director, Management Analysis and Services Office, CDC, pursuant to Public Law 92-463.

Matters to be Discussed: The meeting will include the review, discussion, and evaluation of the NCCDPHP Arthritis Program.

For Further Information Contact: Lee Ann B. Ramsey, Designated Federal Official, Division of Adult and Community Health, CDC, 4770 Buford Hwy. NE., Mailstop K51, Atlanta, GA 30341, Telephone 770-488-6036.

The Director, Management Analysis and Services Office, has been delegated the authority to sign Federal Register notices pertaining to announcements of meetings and other committee management activities, for both CDC and the Agency for Toxic Substances and Disease Registry.

Dated: March 2, 2007.
Elaine L. Baker,
Acting Director, Management Analysis and Services Office, Centers for Disease Control and Prevention.

[FR Doc. E7-4537 Filed 3-12-07; 8:45 am]

BILLING CODE 4163-18-P